DEPARTMENT OF THE INTERIOR

National Park Service

General Management Plan, Final Environmental Impact Statement, Rio Grande Wild and Scenic River, Texas

AGENCY: National Park Service, Department of the Interior.

ACTION: Notice of availability of a Record of Decision on the Final Environmental Impact Statement for the General Management Plan, Rio Grande Wild and Scenic River.

SUMMARY: Pursuant to section 102(2)(C) of the National Environmental Policy Act of 1969, codified as amended at 42 U.S.C. 4332(2)(C), the National Park Service announces the availability of the Record of Decision for the Final Environmental Impact Statement, General Management Plan for Rio Grande Wild and Scenic River, Texas. On February 8, 2005, the Associate Regional Director, Intermountain Region approved the Record of Decision for the project. As soon as practicable, the National Park Service will begin to implement the General Management Plan, described as the Preferred Alternative contained in the Final Environmental Impact Statement issued on January 7, 2005.

The following course of action will occur under the preferred alternative. The protection of natural and cultural resources will be emphasized throughout the river corridor, as well as providing opportunities for traditional visitor uses. As mandated by the Wild and Scenic Rivers Act, a permanent boundary for the wild and scenic river is established for protection and management of the outstandingly remarkable values. The National Park Service will negotiate and implement cooperative agreements with nonfederal landowners that specify the rights and responsibilities of the National Park Service and each landowner. A river use plan and resource management plan will be developed for the entire river. The NPS will cooperate with other U.S agencies and the appropriate agencies in Mexico to maintain or enhance water quality and minimum flows in the river. The preferred alternative also recommends to Congress that the upstream segment of the Rio Grande in Big Bend National Park be designated as part of the Wild and Scenic River.

The selected action and one other alternative were analyzed in the draft and final environmental impact statements. A full range of foreseeable environmental consequences was assessed. The full Record of Decision includes a statement of the decision made, synopses of other alternatives considered, the basis for the decision, a finding of non-impairment of park resources and values, a listing of measures to minimize environmental harm, and an overview of public involvement in the planning process.

FOR FURTHER INFORMATION CONTACT: John H. King, Superintendent, Rio Grande Wild and Scenic River, P.O. Box 129, Big Bend National Park, TX 79834-0129, (432) 477-1102.

SUPPLEMENTARY INFORMATION: Copies of the Record of Decision are available from the contact listed above.

Dated: February 8, 2005.
Bob Moon,
Associate Regional Director, Resource, Stewardship, and Research, Intermountain Region, National Park Service.

[FR Doc. 05-6830 Filed 4-5-05; 8:45 am]

BILLING CODE 4312-KF-P